EXPORT-IMPORT BANK OF THE UNITED STATES

[Public Notice: EIB-2020-0008]

Application for Final Commitment for a Long-Term Loan or Financial Guarantee in Excess of $100 million: AP699603XX

AGENCY: Export-Import Bank of the United States.

ACTION: Notice.

SUMMARY: This Notice is to inform the public, in accordance with Section 3(c)(10) of the Export-Import Bank Act of 1945, as amended, the Export-Import Bank of the United States (“EXIM”) has received an application for final commitment for a long-term loan or financial guarantee in excess of $100 million. Comments received within the comment period specified below will be presented to the EXIM Board of Directors prior to final action on this Transaction. Comments received within the comment period specified below will be presented to the EXIM Board of Directors prior to final action on this Transaction.

DATES: Comments must be received on or before November 30, 2020 to be assured of consideration before final consideration of the transaction by the Board of Directors of EXIM.

ADDRESSES: Comments may be submitted through Regulations.gov at www.regulations.gov. To submit a comment, enter EIB-2020-0008 under the heading “Enter Keyword or ID” and select Search. Follow the instructions provided at the Submit a Comment screen. Please include your name, company name (if any) and EIB-2020-0008 on any attached document.

SUPPLEMENTARY INFORMATION: Reference: AP699603XX.

Purpose and use:

Brief description of the purpose of the transaction: Weija Water Supply & Dam Rehabilitation (Weija water plant supplies 80% of Accra's potable water. Accra is Ghana's capital city).

Brief non-proprietary description of the anticipated use of the items being exported: Improve quantity and quality of potable water.

Project consists of pre-project design and analysis as well as refurbishment activities. Rehabilitation activities associated with this transaction include (i) increasing reservoir storage capacity by dredging and the construction of dredge spoil containment areas; (ii) repair and maintenance of the Dam and the intake structures, including an assessment of the structural integrity of the concrete spillway; (iii) major rehabilitation of the three existing water treatment plants to restore them to design capacity; (iv) rehabilitation of six waste stabilization ponds; and (v) rehabilitation and upgrade of the Weija Training School.

To the extent that EXIM is reasonably aware, the item(s) being exported are not expected to produce exports or provide services in competition with the exportation of goods or provision of services by a United States industry.

Parties:

Principal Supplier: Ageiss, Inc.

Obligor: Ministry of Finance of Ghana

Guarantor(s): N/A

Description of Items Being Exported: Engineering and environmental services, replace fiber beds, construct intake structure & pumping facilities, construct staff accommodations and offices, supply aerators, clarifiers, filters, etc.

Information on Decision: Information on the final decision for this transaction will be available in the “Summary Minutes of Meetings of Board of Directors” on http://exim.gov/newsandevents/boardmeetings/board/

Confidential Information: Please note that this notice does not include confidential or proprietary business information; information which, if disclosed, would violate the Trade Secrets Act; or information which would jeopardize jobs in the United States by supplying information that competitors could use to compete with companies in the United States.

Kita L. Hall,
Program Specialist.

[FR Doc. 2020-24525 Filed 11-4-20; 8:45 am]

BILLING CODE 6690-01-P